DEPARTMENT OF JUSTICE

Antitrust Division

Notice Pursuant to the National Cooperative Research and Production Act of 1993—BIFMA International

Notice is hereby give that, on September 20, 2004, pursuant to section 6(a) of the National Cooperative Research and Production Act of 1993, 15 U.S.C. 4301 et seq. (“the Act”), BIFMA International (“BIFMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: BIFMA International, Grand Rapids, MI. The nature and scope of BIFMA's standards development activities are: BIFMA develops safety and performance standards for office furniture products, e.g., desks, seating, files, other storage units and panel systems. The purpose of the standards developed by BIFMA is to provide a minimum acceptable level of safety and some assurance of product quality. The standards describe the specific tests that must be conducted and the level of performance that must be achieved for a product to be in compliance with the standard. The standards developed by BIFMA are reviewed and updated every five years.

Dorothy B. Fountain,
Deputy Director of Operations, Antitrust Division.

[FR Doc. 05-5886 Filed 3-24-05; 8:45 am]

BILLING CODE 4410-11-M